DEPARTMENT OF THE INTERIOR

[CA-160-1220-PG]

Carrizo Plain National Monument Advisory Committee; Renewal Notice

AGENCY: Bureau of Land Management (BLM), California State Office.

ACTION: Carrizo Plain National Monument Advisory Committee—Notice of Renewal.

SUMMARY: This notice is published in accordance with Section 9(a)(2) of the Federal Advisory Committee Act of 1972, Public Law 92-463. Notice is hereby given that the Secretary of the Interior has renewed the Bureau of Land Management's Carrizo Plain National Monument Advisory Committee.

The purpose of the Committee is to provide advice and counsel to the Bureau of Land Management, through the Carrizo Plain National Monument Manager, with respect to the revision and implementation of the comprehensive plan developed in accordance with the Federal Land Policy and Management Act of 1976.

FOR FURTHER INFORMATION CONTACT: Alden Boetsch, Intergovernmental Affairs (640), Bureau of Land Management, 1620 L Street, NW., Room 406 LS, Washington, DC 20036, telephone (202) 452-5165.

Certification Statement

I hereby certify that the renewal of the Carrizo Plain National Monument Advisory Committee is necessary and in the public interest in connection with the Secretary of the Interior's responsibilities to manage the lands, resources, and facilities administered by the Bureau of Land Management.

Dated: August 2, 2004.
Gale A. Norton,
Secretary of the Interior.

[FR Doc. 04-18860 Filed 8-17-04; 8:45 am]

BILLING CODE 4310-84-P